ENVIRONMENTAL PROTECTION AGENCY

[OAR-2003-0171, FRL-7576-3]

Agency Information Collection Activities: Proposed Collection; Comment Request; Recordkeeping and Reporting Requirements Regarding the Sulfur Content of Motor Vehicle Gasoline Under the Tier 2 Rule, EPA ICR Number 1907.02, OMB Control Number 20 2060-0437

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request for renewal of an existing approved collection. This ICR is scheduled to expire on 1/31/04. Before submitting the ICR to OMB for review and approval, EPA is soliciting comments on specific aspects of the proposed information collection as described below.

DATES: Comments must be submitted on or before December 19, 2003.

ADDRESSES: Submit your comments, referencing docket ID number OAR-2003-0171, to EPA online using EDOCKET (our preferred method), by e-mail to a-and-r-docket@epa.gov, or by mail to: EPA Docket Center, Environmental Protection Agency, Office of Air and Radiation Docket, Mail Code 6102T, 1200 Pennsylvania Ave., NW., Washington, DC 20460.

FOR FURTHER INFORMATION CONTACT: Marilyn Bennett, Office of Transportation and Air Quality, Mail Code 6406J, Environmental Protection Agency, 1200 Pennsylvania Ave., NW., Washington, DC 20460; telephone number: (202) 564-8989; fax number: (202) 565-2085; e-mail address: bennett.marilyn@epa.gov.

SUPPLEMENTARY INFORMATION: EPA has established a public docket for this ICR under Docket ID number OAR-2003-0171, which is available for public viewing at the Office of Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are those who manufacture, import, distribute and sell gasoline.

Title: Recordkeeping and Reporting Requirements Regarding the Sulfur Content of Motor Vehicle Gasoline Under the Tier 2 Rule.

Abstract: The requirements covered under this ICR are included in the final Tier 2 rule, published on the February 10, 2000 (65 FR 6698). A minor additional ICR requirement was added to the Tier 2 rule on June 12, 2002 (67 FR 40169).

The scope of the recordkeeping and reporting requirements for each type of party (e.g., refiners, importers, distributors, or retailers of gasoline), and therefore the cost to that party, reflects the party's opportunity to create, control or alter the sulfur content of gasoline. As a result, refiners and importers have significant requirements, which are necessary both for their own tracking and that of downstream parties, and for EPA enforcement, while parties downstream from the gasoline production or import point, such as retailers, have minimal burdens under the rule. Many of the reporting and recordkeeping requirements for refiners and importers regarding the sulfur content of gasoline on which the Tier 2 sulfur program relies currently exist under EPA's reformulated gasoline (RFG) and conventional gasoline (CG) anti-dumping programs. The ICR for the RFG/CG programs covered the majority of the start-up costs associated with the reporting of gasoline sulfur content. Consequently, much of the cost associated with the sulfur-control requirements under the sulfur program has already been accounted for under the ICR for the RFG/CG programs.

The information under this ICR will be collected by EPA's Transportation and Regional Programs Division, Office of Transportation and Air Quality, Office of Air and Radiation (OAR), and by EPA's Air Enforcement Division, Office of Regulatory Enforcement, Office of Enforcement and Compliance Assurance (OECA). The information collected will be used by EPA to evaluate compliance with the gasoline sulfur control requirements under the Tier 2 rule. This oversight by EPA is necessary to ensure attainment of the air quality goals of the Tier 2 program. Proprietary information will be submitted by refiners and importers for demonstrating compliance with the sulfur standards, and for establishing baseline sulfur levels under the credit trading and hardship programs associated with the rule. Confidentiality is handled in accordance with the Freedom of Information Act and EPA regulations at 40 CFR part 2. An agency may not conduct or sponsor, and a person is not required to respond to, a collection of information unless it displays a currently valid OMB control number. The OMB control numbers for EPA's regulations listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: For the early years of the Tier 2 gasoline sulfur program (to December 31, 2003), EPA estimated a total of 192,063 responses, a total annual burden of 12,532 hours, and a total annual cost of $325,702 to industry. This estimate includes the initial burden associated with learning and adapting to the new requirements. Most of the burdens associated with the early years of the program relate to applications for various hardship provisions and the generation of early credits, which will not be applicable after 2004.

The standards for gasoline sulfur become effective beginning January 1, 2004. Compliance with these standards requires some additional testing and reporting beyond that required under the RFG/CG programs. The most significant increase in the testing and reporting burden is due to the requirement that refiners and importers test and report every batch of gasoline for compliance with the sulfur standards. Currently, all refiners and importers of RFG are required to test and report every batch of RFG; however, refiners and importers of conventional gasoline currently are allowed to composite samples for purposes of demonstrating compliance with the CG anti-dumping regulations. EPA estimates that the annual burden on refiners associated with this every batch testing/reporting requirement will be about one hour per response per refiner, and 400 responses per year per refiner. There are about 75 refiners that will be affected by this requirement. For importers, the burden will be one hour per response per importer, and 27 responses per year per importer. About 30 importers will be affected by this requirement. The cost associated with this burden for refiners will depend on whether the refiner uses its own testing equipment or uses an independent laboratory. Most importers will use an independent laboratory. The estimated annual cost is $24,800 for refiners that use their own equipment and $29,600 for refiners that use an independent laboratory. The estimated annual cost for importers is $1,998. There are some additional modest burdens and costs for refiners and importers associated with this rule. Some of these burdens are related to additional information regarding sulfur content required on annual reports currently being submitted to EPA under the RFG/CG programs. Several of the additional burdens are related to various hardship or other flexibility provisions provided in the rule. There are also some modest burdens on terminals and pipelines associated with this rule due to additional Q/A testing requirements. Beginning in 2004, EPA estimates there will be a total of about 2,536 annual responses, a total annual average burden of 38,742 hours, and a total annual cost of $2,405,355 to industry. There are no capital and start-up costs or operation and maintenance costs associated with this rule. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 14, 2003.
David J. Kortum,
Acting Director, Transportation and Regional Programs Division.

[FR Doc. 03-26410 Filed 10-17-03; 8:45 am]

BILLING CODE 6560-50-P